DEPARTMENT OF ENERGY

Federal Energy Regulatory Commission

Combined Notice of Filings #1

Take notice that the Commission received the following exempt wholesale generator filings:

Docket Numbers: EG26-148-000.

Applicants: Crowned Ridge Energy Storage I, LLC.

Description: Crowned Ridge Energy Storage I, LLC submits Notice of Self-Certification of Exempt Wholesale Generator Status.

Filed Date: 2/6/26.

Accession Number: 20260206-5095.

Comment Date: 5 p.m. ET 2/27/26.

Docket Numbers: EG26-149-000.

Applicants: Empire Offshore Wind LLC.

Description: Empire Offshore Wind LLC submits Notice of Self-Certification of Exempt Wholesale Generator Status.

Filed Date: 2/9/26.

Accession Number: 20260209-5123.

Comment Date: 5 p.m. ET 3/2/26.

Take notice that the Commission received the following electric rate filings:

Docket Numbers: ER10-1484-036; ER13-1069-025; ER12-2381-022.

Applicants: MP2 Energy NE LLC, MP2 Energy LLC, Shell Energy North America (US), L.P.

Description: Notice of Non-Material Change in Status of Shell Energy North America (US), L.P., et al.

Filed Date: 1/30/26.

Accession Number: 20260130-5565.

Comment Date: 5 p.m. ET 2/20/26.

Docket Numbers: ER10-2527-013; ER23-842-004; ER24-3146-001; ER24-3148-001; ER10-2532-021; ER23-1497-004; ER24-3149-001; ER20-1610-006; ER23-1595-006; ER10-2535-015; ER23-843-004.

Applicants: Oak Trail Solar, LLC, Mendota Hills, LLC, LRE Energy Services, LLC, Lone Tree Wind, LLC, Hoosier Line Energy, LLC, GSG Wind, LLC, Crescent Ridge LLC, Blackford Wind Energy, LLC, Blackford Solar Energy, LLC, Big Plain Solar, LLC, Allegheny Ridge Wind Farm, LLC.

Description: Notice of Change in Status of Allegheny Ridge Wind Farm, LLC, et al.

Filed Date: 1/30/26.

Accession Number: 20260130-5575.

Comment Date: 5 p.m. ET 2/20/26.

Docket Numbers: ER10-2995-011.

Applicants: Juniper Canyon Wind Power LLC.

Description: Notice of Change in Status of Juniper Canyon Wind Power LLC.

Filed Date: 1/30/26.

Accession Number: 20260130-5580.

Comment Date: 5 p.m. ET 2/20/26.

Docket Numbers: ER10-3050-016; ER10-3053-016.

Applicants: Whitewater Hill Wind Partners, LLC, Cabazon Wind Partners, LLC.

Description: Notice of Non-Material Change in Status of Cabazon Wind Partners, LLC, et al.

Filed Date: 1/30/26.

Accession Number: 20260130-5579.

Comment Date: 5 p.m. ET 2/20/26.

Docket Numbers: ER12-1437-004.

Applicants: Eagle Point Power Generation LLC.

Description: Refund Report: Eagle Point Refund Report to be effective N/A.

Filed Date: 2/5/26.

Accession Number: 20260205-5145.

Comment Date: 5 p.m. ET 2/26/26.

Docket Numbers: ER17-1931-016; ER17-1930-016; ER17-1932-016; ER14-594-027; ER20-649-013; ER14-867-013; ER14-868-014; ER23-645-004; ER22-2474-007.

Applicants: Top Hat Wind Energy LLC, Wagon Wheel Wind Project, LLC, AEP Retail Energy Partners, AEP Energy, Inc., AEP Energy Partners, Inc., Ohio Power Company, Southwestern Electric Power Company, Public Service Company of Oklahoma, AEP Texas Inc.

Description: Triennial Market Power Analysis for Southwest Power Pool Region of AEP Texas Inc., et al.

Filed Date: 1/30/26.

Accession Number: 20260130-5572.

Comment Date: 5 p.m. ET 3/31/26.

Docket Numbers: ER19-1741-003; ER17-1603-004; ER17-1037-006; ER17-2245-005.

Applicants: Moffett Solar 1, LLC, Innovative Solar 37, LLC, Dominion Energy Generation Marketing, Inc., Dominion Energy South Carolina, Inc.

Description: Notice of Change in Status and Supplement to 06/30/2023, Triennial Market Power Analysis for Southeast Region of Dominion Energy South Carolina, Inc., et al.

Filed Date: 1/30/26.

Accession Number: 20260130-5562.

Comment Date: 5 p.m. ET 2/20/26.

Docket Numbers: ER21-2445-006; ER23-2716-004; ER25-561-002; ER25-562-002; ER16-2226-006.

Applicants: McHenry Battery Storage, LLC, Winfield Solar I, LLC, Crossover Wind LLC, Moraine Sands Wind Power, LLC, Glacier Sands Wind Power, LLC.

Description: Notice of Non-Material Change in Status of Glacier Sands Wind Power, LLC, et al.

Filed Date: 1/30/26.

Accession Number: 20260130-5567.

Comment Date: 5 p.m. ET 2/20/26.

Docket Numbers: ER22-2474-006.

Applicants: Top Hat Wind Energy LLC.

Description: Notice of Change in Status of Top Hat Wind Energy LLC.

Filed Date: 1/30/26.

Accession Number: 20260130-5571.

Comment Date: 5 p.m. ET 2/20/26.

Docket Numbers: ER23-2440-006.

Applicants: McFarland Solar B, LLC.

Description: Notice of Change in Status of McFarland Solar B, LLC.

Filed Date: 1/30/26.

Accession Number: 20260130-5568.

Comment Date: 5 p.m. ET 2/20/26.

Docket Numbers: ER24-1901-001.

Applicants: Yum Yum Solar LLC.

Description: Notice of Non-Material Change in Status of Yum Yum Solar LLC.

Filed Date: 1/30/26.

Accession Number: 20260130-5560.

Comment Date: 5 p.m. ET 2/20/26.

Docket Numbers: ER24-2459-001.

Applicants: Tenaska Virginia Partners, L.P.

Description: Refund Report: Refund Report to be effective N/A.

Filed Date: 2/9/26.

Accession Number: 20260209-5044.

Comment Date: 5 p.m. ET 3/2/26.

Docket Numbers: ER25-895-004.

Applicants: BOCA bn, LLC.

Description: Notice of Change in Status of BOCA bn, LLC.

Filed Date: 1/30/26.

Accession Number: 20260130-5566.

Comment Date: 5 p.m. ET 2/20/26.

Docket Numbers: ER25-2277-001.

Applicants: West Camp Wind Farm, LLC.

Description: Notice of Change in Status of West Camp Wind Farm, LLC.

Filed Date: 1/30/26.

Accession Number: 20260130-5569.

Comment Date: 5 p.m. ET 2/20/26.

Docket Numbers: ER25-2600-002.

Applicants: Midcontinent Independent System Operator, Inc., Duke Energy Indiana, LLC.

Description: Compliance filing: Duke Energy Indiana, LLC submits tariff filing per 35: 2026-02-09_Compliance for DEI Template RE Procurement Subsidiary to be effective 2/23/2026.

Filed Date: 2/9/26.

Accession Number: 20260209-5096.

Comment Date: 5 p.m. ET 3/2/26.

Docket Numbers: ER25-2940-001.

Applicants: Solar DG NM Amalia, LLC.

Description: Notice of Non-Material Change in Status of Solar DG NM Amalia, LLC.

Filed Date: 1/30/26.

Accession Number: 20260130-5576.

Comment Date: 5 p.m. ET 2/20/26.

Docket Numbers: ER25-3475-005; ER10-1292-019; ER10-1319-021; ER10-1276-021; ER10-1353-021; ER18-1183-014; ER18-1184-014; ER10-1303-019; ER25-3172-003; ER10-1287-020; ER24-3028-003; ER24-3029-003; ER23-1411-006.

Applicants: Newport Solar LLC, Livingston Generating Station, LLC, Kalamazoo Generating Station, LLC, Grayling Generation Station Limited Partnership, Genesee Solar Energy, LLC, Genesee Power Station Limited Partnership, Delta Solar Power II, LLC, Delta Solar Power I, LLC, Dearborn Industrial Generation, L.L.C., Consumers Energy Company, CMS Generation Michigan Power, LLC, CMS Energy Resource Management Company, Branch Solar, LLC.

Description: Notice of Non-Material Change in Status of Branch Solar, LLC, et al.

Filed Date: 1/30/26.

Accession Number: 20260130-5561.

Comment Date: 5 p.m. ET 2/20/26.

Docket Numbers: ER26-8-002; ER24-2663-006; ER26-9-001; ER20-1980-017; ER20-2049-016; ER24-2664-006; ER25-1438-007; ER10-1852-124; ER25-3265-002; ER11-4462-119; ER16-1509-009; ER17-838-093; ER10-1951-096.

Applicants: NextEra Energy Services Massachusetts, LLC, NextEra Energy Marketing, LLC, New Wave Energy Corp, NEPM II, LLC, Jackalope Wind, LLC, Florida Power & Light Company, Dominguez Grid, LLC, Cedar Springs Wind IV, LLC, Cedar Springs Wind III, LLC, Cedar Springs Wind, LLC, Cedar Springs Energy Storage IV, LLC, Anticline Wind, LLC, Anticline Energy Storage, LLC.

Description: Notice of Non-Material Change in Status of Anticline Energy Storage, LLC, et al.

Filed Date: 1/30/26.

Accession Number: 20260130-5563.

Comment Date: 5 p.m. ET 2/20/26.

Docket Numbers: ER26-240-001.

Applicants: Midcontinent Independent System Operator, Inc.

Description: Tariff Amendment: 2026-02-09_SA 4578 OMU-LGE-KY IA Sub Certificate of Concurrence to be effective 12/31/9998.

Filed Date: 2/9/26.

Accession Number: 20260209-5130.

Comment Date: 5 p.m. ET 3/2/26.

Docket Numbers: ER26-518-001.

Applicants: Southern California Edison Company.

Description: Tariff Amendment: SCE Response to FERC Deficiency re Rosa Storage Unexecuted LA (TOT1147/SA372) to be effective 11/15/2025.

Filed Date: 2/9/26.

Accession Number: 20260209-5049.

Comment Date: 5 p.m. ET 3/2/26.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, contact the Office of Public Participation at (202) 502-6595 or OPP@ferc.gov.

Dated: February 9, 2026.
Carlos D. Clay,
Deputy Secretary.

[FR Doc. 2026-02847 Filed 2-11-26; 8:45 am]

BILLING CODE 6717-01-P